NATIONAL SCIENCE FOUNDATION

Advisory Committee for Small Business Industrial Innovation; Notice of Meeting

In accordance with the Federal Advisory Committee Act (Pub. L. 92-463, as amended), the National Science Foundation announces the following meeting:

Name: Advisory Committee for Small Business Industrial Innovation (61).

Dates/Time: June 18-19, 2002, 8:30 a.m.-5 p.m.

Type of Meeting: Open.

Place: Room 1235, National Science Foundation, 4201 Wilson Blvd., Arlington, VA.

Contact Person: Dr. Joseph Hennessey, Acting Director, (703) 292-7069, National Science Foundation, 4201 Wilson Boulevard, Arlington, VA 22230.

Minutes: May be obtained from the contact person listed above.

Purposes of Meeting: To provide advice and recommendations concerning research programs pertaining to the small business community.

AGENDA

June 18, 2002, Room 1235

8:30 a.m.—Introductions

8:35 a.m.—Welcome

8:45 a.m.—Overview of the Program

10 a.m.—Commercialization Success

10:30 a.m.—Break

11 a.m.—OLPA

12:00 noon—Lunch

1 p.m.—Phase I Review Process

3:30 p.m.—Phase II Review Process

5 p.m.—Adjourn

June 19, 2002, Room 1235

8:30 a.m.—Commercialization Planning

10:30 a.m.—Break

10:45 a.m.—Discussion and Preparation of Committee Report

12:00 noon—Working Lunch

3:30 p.m.—Feedback from the Committee

5 p.m.—Adjourn

Dated: May 28, 2002.
Susanne Bolton,
Committee Management Officer.

[FR Doc. 02-13774 Filed 5-31-02; 8:45 am]

BILLING CODE 7555-01-M